DEPARTMENT OF LABOR

Office of the Secretary

Agency Information Collection Activities; Submission for OMB Review; Comment Request; Growing America Through Entrepreneurship II Evaluation

ACTION: Notice.

SUMMARY: The Department of Labor (DOL) is submitting the Employment and Training Administration (ETA) proposed information collection request (ICR) titled, “Growing America Through Entrepreneurship II Evaluation,” to the Office of Management and Budget (OMB) for review and approval for use in accordance with the Paperwork Reduction Act (PRA) of 1995 (44 U.S.C. 3501 et seq.).

DATES: Submit comments on or before January 12, 2012.

ADDRESSES: A copy of this ICR with applicable supporting documentation; including a description of the likely respondents, proposed frequency of response, and estimated total burden may be obtained from the RegInfo.gov Web site, http://www.reginfo.gov/public/do/PRAMain, on the day following publication of this notice or by contacting Michel Smyth by telephone at (202) 693-4129 (this is not a toll-free number) or sending an email to DOL_PRA_PUBLIC@dol.gov.

Submit comments about this request to the Office of Information and Regulatory Affairs, Attn: OMB Desk Officer for the Department of Labor, Employment and Training Administration, Office of Management and Budget, Room 10235, Washington, DC 20503, Telephone: (202) 395-6929/Fax: (202) 395-6881 (these are not toll-free numbers), email: OIRA_submission@omb.eop.gov.

FOR FURTHER INFORMATION: Contact Michel Smyth by telephone at (202) 693-4129 (this is not a toll-free number) or by email at DOL_PRA_PUBLIC@dol.gov.

SUPPLEMENTARY INFORMATION: Project Growing America Through Entrepreneurship (GATE) was an experimental design demonstration that investigated the impact of providing entrepreneurship training services to individuals interested in starting or growing a business. The cornerstone of the evaluation was random assignment. A total of 4198 applicants to Project GATE were randomly assigned to either a program group or a control group. The project was implemented in both rural and urban locations in Maine, Pennsylvania, and Minnesota from 2002 to 2009. In Project GATE, treatment group members were offered an assessment of their business needs, classroom training, one-on-one technical assistance, and assistance in applying for business financing. A telephone survey of participants and control group members was conducted to collect three waves of data at approximately six months after random assignment, 18 months after random assignment, and 60 months after random assignment. A process evaluation as well as an impact evaluation of the effectiveness of the GATE model were conducted utilizing site visits, surveys, and administrative data.

The proposed evaluation of Project GATE II grants is necessary for policymakers and program developers to determine whether the model can be successfully implemented for dislocated workers. This follow-up survey is the only way to collect information on self-employment experiences, receipt of microenterprise services, and household income.

Project GATE II will be evaluated using an experimental design. Individuals that submitted an application for GATE II in each site and who met minimal eligibility criteria are being randomly assigned to either a program group or a control group. Members of the program group are eligible to receive GATE II services, while members of the control group are not eligible to receive GATE II services, although they will not be prohibited from receiving self-employment services from other sources.

As already noted, unlike the first Project GATE demonstration, which was available to all applicants, services under GATE II are targeted towards Workforce Investment Act dislocated workers. In June 2008, grants were awarded to implement GATE II in four states—Alabama, Minnesota, North Carolina, and Virginia. Two states, Alabama and North Carolina, were selected to target services to dislocated workers in rural areas, while the two other States, Minnesota and Virginia, were selected to target dislocated workers 45 years old and older.

This information collection needed to conduct the evaluation is subject to the PRA. A Federal agency generally cannot conduct or sponsor a collection of information, and the public is generally not required to respond to an information collection, unless it is approved by the OMB under the PRA and displays a currently valid OMB Control Number. In addition, notwithstanding any other provisions of law, no person shall generally be subject to penalty for failing to comply with a collection of information if the collection of information does not display a valid OMB Control Number. See 5 CFR 1320.5(a) and 1320.6. For additional information, see the related notice published in the Federal Register on May 5, 2011 (76 FR 25723).

Interested parties are encouraged to send comments to the OMB, Office of Information and Regulatory Affairs at the address shown in the ADDRESSES section within 30 days of publication of this notice in the Federal Register. In order to help ensure appropriate consideration, comments should identify the ICR Reference Number, 201108-1205-006. The OMB is particularly interested in comments that:

• Evaluate whether the proposed collection of information is necessary for the proper performance of the functions of the agency, including whether the information will have practical utility;

• Evaluate the accuracy of the agency's estimate of the burden of the proposed collection of information, including the validity of the methodology and assumptions used;

• Enhance the quality, utility, and clarity of the information to be collected; and

• Minimize the burden of the collection of information on those who are to respond, including through the use of appropriate automated, electronic, mechanical, or other technological collection techniques or other forms of information technology, e.g., permitting electronic submission of responses.

Agency: Employment and Training Administration (ETA).

Title of Collection: Growing America Through Entrepreneurship II Evaluation.

OMB ICR Reference Number: 201108-1205-006.

Affected Public: Individuals or Households.

Total Estimated Number of Respondents: 1584.

Total Estimated Number of Responses: 1584.

Total Estimated Annual Burden Hours: 792.

Total Estimated Annual Other Costs Burden: $0.

Dated: December 7, 2011.
Michel Smyth,
Departmental Clearance Officer.

[FR Doc. 2011-31878 Filed 12-12-11; 8:45 am]

BILLING CODE 4510-FN-P